DEPARTMENT OF COMMERCE

International Trade Administration

Colorado State University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 03-046. Applicant: Colorado State University, Fort Collins, CO 80523. Instrument: Piezoelectric Scanning Stage, Model NIS-30. Manufacturer: Nanonics Imaging Ltd, Israel. Intended Use: See notice at 68 FR 56622, October 1, 2003.

Comments: None received. Decision: Approved. No instrument of equivalent scientific value to the foreign instrument, for such purposes as it is intended to be used, is being manufactured in the United States. Reasons: This is a compatible accessory for an existing instrument purchased for the use of the applicant.

The accessory is pertinent to the intended uses and we know of no domestic accessory which can be readily adapted to the previously imported instrument.

Gerald A. Zerdy,
Program Manager, Statutory Import Programs Staff.

[FR Doc. 03-27691 Filed 11-3-03; 8:45 am]

BILLING CODE 3510-DS-P